DEPARTMENT OF COMMERCE

Foreign-Trade Zones Board

[B-25-2022]

Foreign-Trade Zone (FTZ) 281—Miami-Dade County, Florida; Notification of Proposed Production Activity; EUSA Global LLC (Medical Equipment); Medley, Florida

EUSA Global LLC submitted a notification of proposed production activity to the FTZ Board (the Board) for its facility in Medley, Florida under FTZ 281. The notification conforming to the requirements of the Board's regulations (15 CFR 400.22) was received on June 7, 2022.

Pursuant to 15 CFR 400.14(b), FTZ production activity would be limited to the specific foreign-status materials/components and specific finished products described in the submitted notification (summarized below) and subsequently authorized by the Board. The benefits that may stem from conducting production activity under FTZ procedures are explained in the background section of the Board's website—accessible via www.trade.gov/ftz.

The proposed finished products include: optical heads for colposcope or microscope with LED light source; optical heads for colposcope or microscope with video; optical heads for colposcope or microscope with LED light source, with video; LED light source; LED portable light source; LED portable head light source; endoscopes; sinuscopes; otoscopes; laryngoscopes; and, video cameras for endoscopy (duty-free).

The proposed foreign-status materials and components include: plastic carrying cases for LED lights and devices; head band holders; LED light sources; plastic 35mm adapters for c-mount cameras; metal adapters for endoscopes; connector cables; metal carrying cases for endoscopes; cooling fans; heat sinks; power supplies for video cameras; LED drivers; power supplies for LED light sources; video cameras; camera heads; housings for video splitters; metal housings for protecting electrical circuits; knobs; metal housings for printed circuit assemblies; battery chargers/power supplies; hemi filters; power sockets; hemi protection filters; power switches; LED holders; LEDs (high power); power cables; video cables; lithium-ion rechargeable batteries; optical assemblies for endoscopes; optics; binoculars; variable focal lenses; fixed focal lenses; “T” handpieces for scope heads; optical splitters; eye pieces; video adapters; video splitters; c-mount adapters; colposcope/microscope, optical magnification changers; LED Illuminators; and, mounted LEDs with optics with portable lithium-ion batteries (duty rate ranges from duty-free to 7.6%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is July 25, 2022.

A copy of the notification will be available for public inspection in the “Online FTZ Information System” section of the Board's website.

For further information, contact Christopher Wedderburn at Chris.Wedderburn@trade.gov.

Dated: June 9, 2022.
Andrew McGilvray,
Executive Secretary.

[FR Doc. 2022-12896 Filed 6-14-22; 8:45 am]

BILLING CODE 3510-DS-P